NATIONAL LABOR RELATIONS BOARD

Notice of Appointments of Individuals To Serve as Members of Performance Review Boards

AGENCY: National Labor Relations Board.

ACTION: The National Labor Relations Board is issuing this notice that the individuals whose names and position titles appear below have been appointed to serve as members of performance review boards in the National Labor Relations Board for the rating year beginning October 1, 2017 and ending September 30, 2018.

Name and Title

Elizabeth Tursell—Associate to the General Counsel, Division of Operations Management

Linda Dreeben—Deputy Associate General Counsel, Division of Enforcement Litigation

John Kyle—Deputy General Counsel, Office of the General Counsel

Christine Lucy—Associate Board Counsel, Office of the Chairman

Jayme Sophir—(Alternate)—Associate General Counsel, Division of Advice

Mark Arbesfeld—(Alternate)—Director, Office of Appeals

Lara Zick—Deputy Chief Counsel to Member Emanuel

Rachel Lennie—(Alternate)—Deputy Chief Counsel to Kaplan

FOR FURTHER INFORMATION CONTACT: Roxanne Rothschild, Acting Executive Secretary, National Labor Relations Board, 1015 Half Street SE, Washington, DC 20570, (202) 273-2917 (this is not a toll-free number), 1-866-315-6572 (TTY/TDD).

Authority: 5 U.S.C. 4314(c)(4).

Dated: October 31, 2018.
By Direction of the Board,
Farah Z. Qureshi,
Associate Executive Secretary.

[FR Doc. 2018-24133 Filed 11-2-18; 8:45 am]

BILLING CODE 7545-01-P